DEPARTMENT OF COMMERCE

National Oceanic and Atmospheric Administration

[I.D. 051705A]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of its Snapper Grouper Committee and Advisory Panel, a meeting of its Snapper Grouper Committee, Joint Executive and Finance Committees, Protected Resources Committee, Joint Ecosystem and Habitat Committees, and a meeting of the full Council. In addition, there will be a public scoping meeting addressing the Fishery Ecosystem Plan and Comprehensive Amendment and public comment will be taken on Council consideration of an Interim Rule addressing overfishing for snapper grouper species.

DATES: The meeting will be held in June 2005. See SUPPLEMENTARY INFORMATION for specific dates and times.

ADDRESSES: The meeting will be held at the Radisson Resort at the Port, 8701 Astronaut Boulevard, Cape Canaveral, FL 32920; Telephone: (1-800) 333-3333 or 321/ 784-0000, FAX 321/783-7718.

Copies of documents are available from Kim Iverson, Public Information Officer, South Atlantic Fishery Management Council, One Southpark Circle, Suite 306, Charleston, SC 29407-4699.

FOR FURTHER INFORMATION CONTACT: Kim Iverson, Public Information

Officer; telephone: 843/571-4366 or toll free at 866/SAFMC-10; fax: 843/769-4520; email: kim.iverson@safmc.net.

SUPPLEMENTARY INFORMATION:

Meeting Dates

1. Joint Snapper Grouper Committee and Advisory Panel Meeting: June 13, 2005, 1:30 p.m. 5 p.m. and June 14, 2005, 8:30 a.m.-12 noon

The Snapper Grouper Committee will meet jointly with the Snapper Grouper Advisory Panel (AP) to review the results of the updated black sea bass assessment and receive a report from the Scientific and Statistical Committee (SSC). In addition, the Committee and AP will review the draft of Amendment 13B to the Snapper Grouper Fishery Management Plan regarding mandates under the Sustainable Fisheries Act to address overfishing and discuss the potential for Interim Rule. The Committee and AP will also discuss species to be considered in future stock assessments through the Southeast Data, Assessment and Review (SEDAR) process and receive a presentation from NOAA Fisheries, Southeast Regional Office regarding linking permits and landings databases.

Note: A public scoping meeting on the Fishery Ecosystem Plan and Comprehensive Amendment will be held June 13, 2005 beginning at 6:00 p.m. The Council will also accept public comment on Council consideration of an Interim Rule addressing overfishing for snapper grouper species immediately following the scoping meeting.

2. Snapper Grouper Committee Meeting: June 14, 2005, 1:30 p.m.-5 p.m. and June 15, 2005, 8:30 a.m.-12 noon

The Snapper Grouper Committee will review Amendment 13B to the Snapper Grouper Fishery Management Plan and finalize for public hearings. The Committee will also discuss the potential for Interim Rule and discuss species for future SEDAR assessments.

3. Joint Executive Committee and Finance Committee Meeting: June 15, 2005, 1:30 p.m.-5 p.m.

The Committees will develop the Council's positions on reauthorization of the Magnuson-Stevens Fishery Conservation and Management Act, review NOAA's Ocean Action Plan, the Office of Management and Budget's (OMB) Peer Review Bulletin, and NOAA Fisheries' Report to Congress.

4. Protected Resources Committee Meeting: June 16, 2005, 8:30 a.m. 10:30 a.m.

The Protected Resources Committee will discuss a proposal for installation of a wind farm in the Exclusive Economic Zone (EEZ) off the coast of Georgia. The Committee will receive updates on the Atlantic Large Whale Take Reduction Program's Proposed Rule and plan, the Bottlenose Dolphin Take Reduction Program, Acropora (coral) species proposed listing under the Endangered Species Act, and Biological Opinions for both Amendment 6 to the Shrimp Fishery Management Plan and Amendment 15 to the Coastal Migratory Pelagics (mackerel) FMP. The Committee will also discuss any protected resources concerns, if necessary, for Amendment 13B to the Snapper Grouper FMP with regards to the Biological Opinion.

5. Joint Ecosystem and Habitat Committees Meeting: June 16, 2005, 10:30 a.m.-3 p.m.

The Ecosystem and Habitat Committees will meet jointly to review and approve the Council's Energy Policy. The Committees will also review and approve an Outline for the Fishery Ecosystem Plan and discuss issues relevant to Sargassum management.

6. Council Session: June 16, 2005, 3 p.m. 5 p.m. and June 17, 2005, 8:30 a.m.-12 noon

From 3 p.m.-3:30 p.m., the Council will call the meeting order, make introductions and roll call, adopt the meeting agenda, and approve earlier meeting minutes.

From 3:30 p.m.-4 p.m., the Council will hear a report from the Joint Executive/Finance Committee and take action as appropriate.

From 4 p.m.-4:15 p.m., the Council will receive a report from the Protected Resources Committee and take action as appropriate.

From 4:15 p.m.-4:30 p.m., the Council will hear a report from the Joint Ecosystem and Habitat Committees and take action as appropriate.

From 4:30 p.m.-5 p.m., the Council will receive a briefing from NOAA General Counsel on litigation. (CLOSED SESSION).

Council Session: June 17, 2005, 8:30 a.m. 12 noon.

From 8:30 a.m.-10:30 a.m., the Council will receive a report from the Snapper Grouper Committee and approve Amendment 13B to the Snapper Grouper FMP for public hearings and/or take other action as appropriate.

From 10:30 a.m.-11 a.m., the Council will hear status reports from NOAA Fisheries' Southeast Regional Office and the Southeast Fishery Science Center.

From 11 a.m.-12:00 noon, the Council will receive agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 10, 2005.

Dated: May 17, 2005.
Tracey Thompson,
Acting Director, Office of Sustainable Fisheries, National Marine Fisheries Service.

[FR Doc. E5-2527 Filed 5-19-05; 8:45 am]

BILLING CODE 3510-22-S